DEPARTMENT OF COMMERCE

National Oceanic and Atmospheric Administration

[I.D. 082506B]

New England Fishery Management Council (NEFMC); Public Meeting

AGENCY: National Marine Fisheries Service (NMFS), National Oceanic and Atmospheric Administration (NOAA), Commerce.

ACTION: Notice of a public meeting.

SUMMARY: The New England Fishery Management Council (Council) will hold a 3-day Council meeting to consider actions affecting New England fisheries in the exclusive economic zone (EEZ).

DATES: The meeting will be held on Tuesday, September 26 beginning at 9 a.m., and Wednesday and Thursday, September 27 and 28, beginning at 8:30 a.m., each day.

ADDRESSES: The meeting will be held at the Holiday Inn, One Newbury Street, Peabody, MA 01960; telephone: (978)535-4600.

Council address: New England Fishery Management Council, 50 Water Street, Mill 2, Newburyport, MA 01950; telephone: (978) 465-0492.

FOR FURTHER INFORMATION CONTACT: Paul J. Howard, Executive Director, New England Fishery Management Council, telephone: (978) 465-0492.

SUPPLEMENTARY INFORMATION:

Tuesday, September 26, 2006

Following introductions, the Council will hold elections for 2006-07 officers. A series of brief reports will follow from the Council Chairman and Executive Director, the NOAA Northeast Regional Administrator, Northeast Fisheries Science Center and Mid-Atlantic Fishery Management Council liaisons, NOAA General Counsel and representatives of the U.S. Coast Guard, NOAA Enforcement, the Atlantic States Marine Fisheries Commission, the Scallop Survey Advisory Panel and the Northeast Multispecies Capacity Reduction Committee. During this morning session, the Council also will receive a report from the Northeast Fisheries Science Center on recent oceanographic variability in the Gulf of Maine and Georges Bank regions and the implications for fisheries. The Council will then review and approve the following for inclusion in phase I of the NEFMC's Essential Fish Habitat Omnibus Amendment: essential fish habitat designation alternatives for red crab and Atlantic salmon; alternatives for habitat areas of particular concern (HAPCs); the prey species-related sections of the amendment, as well as the non-fishing impacts section. The Council's Sea Scallop Committee intends to recommend approval of final alternatives to be considered and analyzed in the Draft Supplemental Environmental Impact Statement to accompany Amendment 11 to the Scallop Fishery Management Plan. This will be followed by a presentation on the updated estimate of exploitable scallop biomass in the Elephant Trunk area.

Wednesday, September 27, 2006

During the morning session, the Council's Research Steering Committee Chairman will report on the committee's recommendations concerning the use of information provided in several cooperative research final reports. This will be followed by a presentation on the recent activities of the Northeast Cooperative Research Partners Program. The rest of the morning session will be used to discuss the Groundfish Committee's report. Items will include possible action on recommendations for the 2009 Northeast Multispecies (Groundfish) Plan adjustment as well as consideration of recommendations concerning standards for approving additional gear for the Eastern U.S./Canada Haddock Special Access Program. During the afternoon portion of the meeting, there will be a presentation on the results of the 43rd Stock Assessment Workshop/Stock Assessment Review Committee meeting. Species to be addressed include dogfish, red crab and black sea bass. A report on the results of the Transboundary Resource Assessment Committee's findings on the status of Eastern Georges Bank cod, haddock and yellowtail flounder will follow. The Council will then consider and could approve the recommendations of the Transboundary Management Guidance Committee for fishing year 2007 Total Allowable Catches for yellowtail flounder, cod and haddock caught in the U.S./Canada area. The day will conclude with a report from the Standard Bycatch Reporting Methodology (SBRM) Committee on the development of an amendment to implement an SBRM process across all NEFMC fishery management plans (FMPs). This will include comments from the Council's Scientific and Statistical Committee on a recommended approach and the selection of preferred alternatives.

Thursday, September 28, 2006

The Council will spend the morning session on Atlantic herring management issues. Members will consider final recommendations for multi-year fishery specifications (2007-09). Beforehand, members will consider the recommendations of the Herring Committee, Advisory Panel and Atlantic States Marine Fisheries Commission Herring Section. During the afternoon session, the Council will receive a summary of the comments collected during recent scoping meetings on the management of small mesh multispecies. Following this review, members will provide guidance to the Small Mesh Multispecies Committee as they move forward to develop a fishery management plan amendment. The Skate Annual Review will follow in which the status of the seven species managed through the Skate Fishery Management Plan will be discussed, along with any necessary actions that might be required. Prior to adjournment, there will be consideration of a recommendation to NOAA Fisheries to initiate a data collection program for the hagfish fishery.

Although other non-emergency issues not contained in this agenda may come before this Council for discussion, those issues may not be the subjects of formal action during this meeting. Council action will be restricted to those issues specifically listed in this notice and any issues arising after publication of this notice that require emergency action under section 305(c) of the Magnuson-Stevens Act, provided that the public has been notified of the Council's intent to take final action to address the emergency.

Special Accommodations

This meeting is physically accessible to people with disabilities. Requests for sign language interpretation or other auxiliary aids should be directed to Paul J. Howard (see ADDRESSES) at least 5 days prior to the meeting date.

Dated: August 25, 2006.
Tracey L. Thompson,
Acting Director, Office of Sustainable Fisheries, National Marine Fisheries Service.

[FR Doc. E6-14461 Filed 8-29-06; 8:45 am]

BILLING CODE 3510-22-S